SECURITIES AND EXCHANGE COMMISSION

[File No. 500-1]

AEI Transportation Holdings, Inc.; The Alcar Chemicals Group, Inc.; China Adnet Enterprises Inc.; Innolife Pharma, Inc.; KSW Industries, Inc.; Level Vision Electronics, Ltd.; Life Exchange, Inc.; Lotta Coal, Inc.; Magellan Energy Ltd.; Marinas International, Inc.; Microlink Solutions, Inc.; UDS Group, Inc.; United Environmental Energy Corp.; Uptrend Corp.; VShield Software Corp.; World Hockey Association Corp.; WW Energy, Inc.; Order of Suspension of Trading

September 23, 2009.

It appears to the Securities and Exchange Commission that there is a lack of current and accurate information concerning the securities of AEI Transportation Holdings, Inc., which are quoted on the Pink OTC Markets under the prior name of Doll Technology Group, Inc. using the ticker symbol DTGP. Trading in the securities of AEI Transportation Holdings, Inc. appears to be predicated on apparent misstatements. Certain persons appear to have usurped the identity of a defunct or inactive publicly-traded corporation, initially by reinstating the corporation without authority, and then by obtaining a new CUSIP number and ticker symbol based on the apparently false representation that they were duly authorized officers, directors and/or agents of the original publicly-traded corporation.

It appears to the Securities and Exchange Commission that there is a lack of current and accurate information concerning the securities of The Alcar Chemicals Group, Inc., which trade in the grey market under the ticker symbol ALCX. Trading in the securities of The Alcar Chemicals Group, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of China Adnet Enterprises, Inc., which are quoted on the Pink OTC Markets under the ticker symbol CAEJ. Trading in the securities of China Adnet Enterprises, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Innolife Pharma, Inc., which are quoted on the Pink OTC Markets under the ticker symbol INNP. Trading in the securities of Innolife Pharma, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of KSW Industries, Inc., which trade in the grey market under the ticker symbol KSWJ. Trading in the securities of KSW Industries, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Level Vision Electronics, Ltd., which are quoted on the Pink OTC Markets under the ticker symbol LVLV. Trading in the securities of Level Vision Electronics, Ltd. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Life Exchange, Inc. which are quoted on the Pink OTC Markets and OTC Bulletin Board under the ticker symbol LFXG. Trading in the securities of Life Exchange, Inc. appears to be predicated on apparent misstatements. Certain persons appear to have usurped the identity of a defunct or inactive publicly-traded corporation, initially by reinstating the company without authority, and then by obtaining a new CUSIP number and ticker symbol based on the apparently false representation that they were duly authorized officers, directors and/or agents of the original publicly-traded corporation.

It appears to the Securities and Exchange Commission that there is a lack of current and accurate information concerning the securities of Lotta Coal, Inc., which are quoted on the Pink OTC Markets under the ticker symbol LCOL. Trading in the securities of Lotta Coal, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Magellan Energy Ltd., which are quoted on the Pink OTC Markets under the ticker symbol MGLG. Trading in the securities of Magellan Energy Ltd. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Marinas International, Inc., which trade in the grey market under the ticker symbol MNSI. Trading in the securities of Marinas International, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Microlink Solutions, Inc., which trade in the grey market under a prior name, Pocketop Corp., using the ticker symbol PKTO. Trading in the securities of Microlink Solutions, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of UDS Group, Inc., which are quoted on the Pink OTC Markets under the ticker symbol UDSG. Trading in the securities of UDS Group, Inc. appears to be predicated on apparent misstatements. Certain persons appear to have usurped the identity of a defunct or inactive publicly-traded corporation, initially by reinstating the company without authorization, and then by obtaining a new CUSIP number and ticker symbol based on the apparently false representation that they were duly authorized officers, directors and/or agents of the original publicly-traded corporation.

It appears to the Securities and Exchange Commission that there is a lack of current and accurate information concerning the securities of United Environmental Energy Corp., which are quoted on the Pink OTC Markets under the ticker symbol UTEM. Trading in the securities of United Environmental Energy Corp. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of Uptrend Corp., which are quoted on the Pink OTC Markets under the ticker symbol UPCP. Trading in the securities of Uptrend Corp appears to be predicated on apparent misstatements. Certain persons appear to have usurped the identity of a defunct or inactive publicly-traded corporation, initially by reinstating the company without authorization, and then by obtaining a new CUSIP number and ticker symbol based on the apparently false representation that they were duly authorized officers, directors and/or agents of the original publicly-traded corporation.

It appears to the Securities and Exchange Commission that there is a lack of current and accurate information concerning the securities of VShield Software Corp., which are quoted on the Pink OTC Markets under the ticker symbol VSHE. Trading in the securities of VShield Software Corp. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of World Hockey Association Corp., which are quoted on the Pink OTC Markets under the ticker symbol WHKA. Trading in the securities of World Hockey Association Corp. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

It appears to the Securities and Exchange Commission that there is a lack of current and accurate information concerning the securities of WW Energy, Inc., which are quoted on the Pink OTC Markets under the ticker symbol WWNG. Trading in the securities of WW Energy, Inc. appears to be predicated on apparent misstatements. Certain persons appear to have usurped the identity of a defunct or inactive publicly-traded corporation, initially by incorporating a new entity using the same name, and then by obtaining a new CUSIP number and ticker symbol based on the apparently false representation that they were duly authorized officers, directors and/or agents of the original publicly-traded corporation.

The Commission is of the opinion that the public interest and the protection of investors require a suspension of trading in the securities of the above-listed companies.

Therefore, it is ordered, pursuant to Section 12(k) of the Securities Exchange Act of 1934, that trading in the above-listed companies is suspended for the period from 9:30 a.m. EDT on September 23, 2009, through 11:59 p.m. EDT on October 6, 2009.

By the Commission.
Jill M. Peterson,
Assistant Secretary.

[FR Doc. E9-23295 Filed 9-23-09; 4:15 pm]

BILLING CODE 8010-01-P